ENVIRONMENTAL PROTECTION AGENCY

[EPA-HQ-RCRA-2008-0330; FRL-8749-8]

Agency Information Collection Activities; Submission to OMB for Review and Approval; Comment Request; Information Collections under the Schools Chemical Cleanout Campaign (SC3)(New); EPA ICR No. 2285.01, OMB Control No. 2050-NEW

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before January 9, 2009.

ADDRESSES: Submit your comments, referencing Docket ID No. EPA-HQ-RCRA-2008-0330, to (1) EPA, either online using http://www.regulations.gov (our preferred method), or by e-mail to rcra-docket@epa.gov, or by mail to: Resource Conservation and Recovery Act (RCRA) Docket (Mail code: 28221T), U.S. Environmental Protection Agency, 1200 Pennsylvania Ave., NW., Washington, DC 20460; and (2) OMB by mail to: Office of Information and Regulatory Affairs, Office of Management and Budget (OMB), Attention: Desk Officer for EPA, 725 17th Street, NW., Washington, DC 20503.

FOR FURTHER INFORMATION CONTACT: Cynthia Merse, Hazardous Waste Minimization and Management Division, Office of Solid Waste (Mail code: 5302P), Environmental Protection Agency, 1200 Pennsylvania Ave., NW., Washington, DC 20460; telephone number: 703-308-0020; fax number: 703-308-8433; e-mail address: merse.cynthia@epa.gov.

SUPPLEMENTARY INFORMATION: EPA has submitted the following ICR to OMB for review and approval according to the procedures prescribed in 5 CFR 1320.12. On June 18, 2008, (73 FR 34731), EPA sought comments on this ICR pursuant to 5 CFR 1320.8(d). EPA received no comments during the comment period. Any additional comments on this ICR should be submitted to EPA and OMB within 30 days of this notice.

EPA has established a public docket for this ICR under Docket ID No. EPA-HQ-RCRA-2008-0330, which is available for online viewing at http://www.regulations.gov, or in person viewing at the RCRA Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the RCRA Docket is 202-566-0270.

Use EPA's electronic docket and comment system at http://www.regulations.gov to submit or view public comments, to access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: Information Collections under the Schools Chemical Cleanout Campaign (SC3)(New).

ICR Number: EPA ICR No. 2285.01, OMB Control No. 2050-NEW.

ICR Status: This ICR is for a new information collection activity. An Agency may not conduct or sponsor, and a person is not required to respond to, a collection of information, unless it displays a currently valid OMB control number. The OMB control numbers for EPA's regulations in Title 40 of the CFR, after appearing in the Federal Register when approved, are listed in 40 CFR Part 9 and are displayed either by publication in the Federal Register or by other appropriate means, such as on the related collection instrument or form, if applicable. The display of OMB control numbers in certain EPA regulations is consolidated in 40 CFR Part 9.

Abstract: EPA launched the National Schools Chemical Cleanout Campaign (SC3) Program in March of 2007. The SC3 Program uses a variety of innovative approaches to achieve three goals: (1) Removal of outdated and dangerous chemicals from K-12 schools; (2) prevention of future accumulations of chemicals and reduction of accidents by establishing prevention activities such as good purchasing and management practices; and, (3) raising national awareness of the problem.

One of the ways that EPA accomplishes its goals under SC3 is by partnering with organizations that volunteer to assist schools in the management of the schools' chemicals and the removal of schools' chemical waste. There are currently eleven Partners.

EPA intends to conduct a voluntary survey of Partners each year to learn about their experiences and needs under the Program. EPA has created two survey forms for this purpose: an Initial Survey and an Annual Update. The Initial Survey will be completed by Partners who are participating in the SC3 Survey for their first time. It is designed to give EPA a general idea of a Partner's background, accomplishments, and needs under SC3. Partners will complete the Annual Update in each subsequent year of their partnership. The Annual Update is designed to describe a Partner's accomplishments and needs since the previous year's survey. Partners can submit completed surveys by e-mail, postal mail, special delivery, or fax. EPA will use the survey data to further develop and improve the Program (e.g., improve its outreach efforts, encourage greater participation, and address resource needs of Partners) and communicate with the public (e.g., share Partners' success stories at the SC3 Web site).

In addition, EPA is interested in promoting the responsible management of chemicals in K-12 schools. To this end, EPA intends to hold three focus groups as part of an effort to gather information about the extent to which colleges and universities are teaching pre-service teachers about responsible chemical management. If EPA finds that a need exists to promote pre-service teacher training on responsible chemical management, EPA will gather feedback from the focus groups for the development and promotion of a curriculum on responsible chemical management that can serve as a model for colleges and universities.

Each focus group will consist of up to nine individuals from industry, educational institutions (e.g., faculty, students), and governmental agencies. During the focus groups, EPA will raise questions and collect feedback from focus group members.

Burden Statement: The annual public reporting burden for the SC3 Survey is estimated to range from 45 minutes to one hour per respondent. This includes time to complete and submit the survey and respond to EPA's follow-up questions, if any. There is no recordkeeping burden. The annual public reporting burden for the focus groups is estimated to be three hours per respondent. This includes time to attend and participate in the focus group. There is no recordkeeping burden. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Organizations that volunteer to partner with EPA under the SC3 Program.

Estimated Average Annual Number of Respondents: 42.

Frequency of Response: Annually or one-time.

Estimated Total Aggregate Annual Respondent Hour Burden: 56 hours.

Estimated Total Aggregate Annual Respondent Cost: $2,910. This includes an estimated labor cost of $2,896 and operation and maintenance cost of $14. There are no capital costs.

Changes in the Estimates: This is a new ICR. The annual burden of 56 hours reflects the time for respondents to participate in EPA's SC3 Survey and focus groups.

Dated: December 4, 2008.
John Moses,
Acting Director, Collection Strategies Division.

[FR Doc. E8-29234 Filed 12-9-08; 8:45 am]

BILLING CODE 6560-50-P